DEPARTMENT OF DEFENSE

Office of the Secretary

Proposed Collection; Comment Request

AGENCY: National Defense University; National Security Education Program, DoD.

ACTION: Notice.

In compliance with Section 3506(c)(2)(A) of the Paperwork Reduction Act of 1995, the Office of the Vice President, National Defense University announces the proposed reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 19, 2001.

ADDRESSES: Written comments and recommendations on the proposed information collection should be sent to National Security Education Program, 1101 Wilson Boulevard, Suite 1210, Attn: Dr. Edmond J. Collier, Arlington, VA 22209-2248.

FOR FURTHER INFORMATION CONTACT: To request more information on this proposed information collection or to obtain a copy of the proposal and associated collection instruments, please write to the above address, or call the National Security Education Program Office, at (703) 696-1991.

Title; Associated Form; and OMB Number: National Security Education Program (NSEP) Proposal Budget Estimate Worksheet; DD Form 2729; OMB Number 0704-0366. National Security Education Program (NSEP) Proposal Cover Sheet; DD Form 2730; OMB Number 0704-0366.

Needs and Uses: The information collection requirement is necessary to obtain and record the qualifications and budget information of universities submitting proposals for NSEP funding.

Affected Public: U.S. public and private institutions of higher education.

Annual Burden Hours: 2000.

Number of Respondents: 250.

Responses per Respondent: 1.

Average Burden per Response: 6.5 hours.

Frequency: Annual.

SUPPLEMENTARY INFORMATION:

Summary of Information Collection

Respondents are representatives of U.S. colleges and universities who choose to submit a proposal in competition for a National Security Education Program (NSEP) Institutional Grant. The NSEP was established by the National Security Education Act of 1991. DD form 2729, National Security Education Program (NSEP) Proposal Budget Worksheet, is a single-page document in which the applicant indicates the cost associated with the proposal by four major categories. Without this form there would be no precise, standard manner for applicants to portray their budget requests. Further there would be no consistent measure by which the merit-review panelists could judge these proposals. DD Form 2730, National Security Education Program (NSEP) Proposal Cover Sheet, is a concise vehicle for transmitting proposals. This form eliminates the need for lengthy nonstandard letters of transmittal. The form also facilitates processing the proposals as all data elements necessary for processing the proposal are on this one form. Additional savings of time and money are realized by the respondents who are required to use these forms instead of unnecessarily elaborate brochures, elaborate art work, expensive paper and bindings, or other such presentations.

Dated: November 14, 2000.
Patricia L. Toppings,
Alternate OSD Federal Register Liaison Officer, Department of Defense.

[FR Doc. 00-29557 Filed 11-17-00; 8:45 am]

BILLING CODE 5001-10-M